DEPARTMENT OF COMMERCE

National Oceanic and Atmospheric Administration

Agency Information Collection Activities; Submission to the Office of Management and Budget (OMB) for Review and Approval; Comment Request; Reporting of Sea Turtle Entanglement in Fishing Gear or Marine Debris

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 27, 2020, during a 60-day comment period. This notice allows for an additional 30 days for public comments.

Agency: National Oceanic and Atmospheric Administration (NOAA), Commerce.

Title: Reporting of Sea Turtle Entanglement in Fishing Gear or Marine Debris.

OMB Control Number: 0648-0496.

Form Number(s): None.

Type of Request: Regular submission [extension of a current information collection].

Number of Respondents: 116.

Average Hours Per Response: 2 to 2.5 hours per case (78 cases).

Total Annual Burden Hours: 169 hours.

Needs and Uses: NOAA's National Marine Fisheries Service (NMFS) manages the Sea Turtle Disentanglement Network (STDN) to respond to sea turtle entanglement in active or discarded fishing gear (in particular those involving the vertical line of fixed gear fisheries), marine debris, or other line in the marine environment. Entanglement has the potential to cause serious injury or mortality, which would negatively impact the recovery of endangered and threatened sea turtle populations. The STDN's goals are to increase reporting, to reduce serious injury and mortality to sea turtles, and to collect information that can be used for mitigation of these threats. As there is limited observer coverage of fixed gear fisheries, the STDN data are invaluable to NMFS in understanding the threat of entanglement and working towards mitigation.

Affected Public: Individuals or households; Business or other for-profit organizations; Not-for-profit institutions; State, Local, or Tribal government; Federal government.

Frequency: Variable depending on reports of entanglement incidents; up to 78 cases annually.

Respondent's Obligation: Voluntary.

Legal Authority: 16 U.S.C. 35, Endangered Species Act of 1973.

This information collection request may be viewed at www.reginfo.gov. Follow the instructions to view the Department of Commerce collections currently under review by OMB. Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0496.

Sheleen Dumas,
Department PRA Clearance Officer, Office of the Chief Information Officer, Commerce Department.

[FR Doc. 2020-16226 Filed 7-24-20; 8:45 am]

BILLING CODE 3510-22-P